Department of Justice

Antitrust Division

Notice Pursuant to the National Cooperative Research and Production Act of 1993—ODVA, Inc.

Notice is hereby given that, on January 20, 2015, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Don Electronics Ltd., Leeds/Yeadon, West Yorkshire, UNITED KINGDOM; NTI AG, Spreitenbach, SWITZERLAND; OEM Technology Solutions, Sydney, AUSTRALIA; Thermo Ramsey Inc., a part of Thermo Fisher Scientific, Waltham, MA, have been added as parties to this venture.

Also, Ethernet Direct, Taipei, TAIWAN; MK Precision Co., Ltd., Seoul, REPUBLIC OF KOREA; Procon Engineering Limited, Sevenoaks, Kent, UNITED KINGDOM; and Shinho System, Seoul, REPUBLIC OF KOREA, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on October 15, 2014. A notice was published in the Federal Register pursuant to Section 6(b) of the Act on November 5, 2014 (79 FR 65702).

Patricia A. Brink,
Director of Civil Enforcement, Antitrust Division.

[FR Doc. 2015-03085 Filed 2-13-15; 8:45 am]

BILLING CODE 4410-11-P